DEPARTMENT OF DEFENSE

Department of the Army

[Docket ID USA-2021-HQ-0012]

Submission for OMB Review; Comment Request

AGENCY: Department of the Army, Department of Defense (DoD).

ACTION: 30-Day information collection notice.

SUMMARY: The Department of Defense has submitted to OMB for clearance the following proposal for collection of information under the provisions of the Paperwork Reduction Act.

DATES: Consideration will be given to all comments received by April 27, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, 571-372-7574, whs.mc-alex.esd.mbx.dd-dod-information-collections@mail.mil.

SUPPLEMENTARY INFORMATION:

Title; Associated Form; and OMB Number: United States Military Academy Candidate Admission Procedures; OMB Control Number 0702-0060.

Type of Request: Revision.

Pre-Candidate Procedures

Number of Respondents: 75,000.

Responses per Respondent: 1.

Annual Responses: 75,000.

Average Burden per Response: 8 minutes.

Annual Burden Hours: 10,000.

Candidate Procedures

Number of Respondents: 28,000.

Responses per Respondent: 1.

Annual Responses: 28,000.

Average Burden per Response: 35.68 minutes.

Annual Burden Hours: 16,650.

Accepted Candidate Procedures:

Number of Respondents: 1,250.

Responses per Respondent: 1.

Annual Responses: 1,250.

Average Burden per Response: 43 minutes.

Annual Burden Hours: 896.

Needs and Uses: This information collection is required to guide qualified candidates through the successful completion of the United States Military Academy (USMA) Admissions Process. The data assists the USMA Department of Admissions, the Admissions Committee, and the Academic Board in determining the candidates who will annually fill the incoming USMA class.

Affected Public: Individuals or households.

Frequency: On occasion.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DoD Clearance Officer: Ms. Angela Duncan.

Requests for copies of the information collection proposal should be sent to Ms. Duncan at whs.mc-alex.esd.mbx.dd-dod-information-collections@mail.mil.

Dated: March 21, 2022.
Aaron T. Siegel,
Alternate OSD Federal Register Liaison Officer, Department of Defense.

[FR Doc. 2022-06471 Filed 3-25-22; 8:45 am]

BILLING CODE 5001-06-P